DEPARTMENT OF HOUSING AND URBAN DEVELOPMENT

[Docket No. FR-5869-D-02]

Order of Succession for the Office of Community Planning and Development

AGENCY: Office of the Secretary, HUD.

ACTION: Notice of Order of Succession for the Office of Community Planning and Development.

SUMMARY: In this notice, the Secretary of HUD designates the Order of Succession for the Office of Community Planning and Development. This Order of Succession supersedes all prior Orders of Succession for the Assistant Secretary for Community Planning and Development, including the Order of Succession published on May 30, 2012.

DATES: Effective upon date of signature.

FOR FURTHER INFORMATION CONTACT: David H. Enzel, Director, Office of Technical Assistance and Management, Department of Housing and Urban Development, 451 7th Street SW., Room 7228, Washington, DC 20410-7000; telephone number 202-402-5557. (This is not a toll-free number.) This number may be accessed via TTY by call the Federal Relay Service at 1-800-877-8339 (this is a toll-free number).

SUPPLEMENTAL INFORMATION: The Secretary of HUD is issuing this Order of Succession of officials authorized to perform the functions and duties of the Office of the Assistant Secretary for Community Planning and Development when the Assistant Secretary is not available to exercise the powers or perform the duties of the office. This publication supersedes all prior orders of succession for the Office of Community Planning and Development, including the Order of Succession published in the Federal Register on May 30, 2012.

Section A. Order of Succession

During any period when the Assistant Secretary is not available to exercise the powers or perform the duties of the Assistant Secretary for Community Planning and Development the following officials within the Office of Community Planning and Development are hereby designated to exercise the powers and perform the duties of the Office, including the authority to waive regulations:

(1) Principal Deputy Assistant Secretary for Community Planning and Development;

(2) General Deputy Assistant Secretary for Community Planning and Development;

(3) Deputy Assistant Secretary for Grant Programs;

(4) Deputy Assistant Secretary for Special Needs Programs;

(5) Deputy Assistant Secretary for Operations;

(6) Deputy Assistant Secretary for Economic Development.

These officials shall perform the functions and duties of the office in the order specified herein, and no official shall serve unless all the other officials, whose positions precede his/hers in this order, are unable to act by reason of absence, disability, or vacancy in office.

Section B. Authority Superseded

This Order of Succession supersedes all prior orders of succession for the Office of Community Planning and Development, including the one published at 77 FR 31974 on May 30, 2012.

Authority: Section 7(d), Department of Housing and Urban Development Act, 42 U.S.C. 3535(d).

Dated: April 13, 2015.
Julián Castro,
Secretary of Housing and Urban Development.

[FR Doc. 2015-08950 Filed 4-17-15; 8:45 am]

BILLING CODE 4210-67-P